DEPARTMENT OF JUSTICE

Notice of Lodging of Consent Decree Between the United States of America and RSR Corp., Quemetco, Inc., and Quemetco Realty, Inc., Under the Comprehensive Environmental Response, Compensation, and Liability Act

Under 28 CFR 50.7, notice is hereby given that on January 31, 2006, a proposed Consent Decree (“Consent Decree”) in the case of United States v. RSR Corp. et al. Civil Action No. 00-890-JLR (W.D. Wash.), has been lodged with the United States District Court for the Western District of Washington.

The Complaint sought the recovery of costs incurred in connection with response actions taken by the United States Environmental Protection Agency at the Soil and Groundwater Operable Unit of the Harbor Island Superfund Site (“the Site”) in Seattle, Washington. Under the terms of the Consent Decree, Defendants will pay the United States $8,500,000.00. In exchange, the United States will provide a covenant not to sue and contribution protection to all of the Defendants.

The Department of Justice will receive for a period of thirty (30) days from the date of this publication comments relating to the Consent Decree. Comments should be addressed to the Assistant Attorney General, Environment and Natural Resources Division, P.O. Box 7611, U.S. Department of Justice, Washington, DC 20044-7611, and should refer to United States v. RSR Corp., et al., Civil Action No. 00-890-JLR (W.D. Wash.), D.J. Ref. 90-11-2-970B.

The Consent Decree may be examined at the Office of the United States Attorney, Western District of Washington, 601 Union Street, Suite 5100, Seattle, Washington, and at U.S. EPA Region 10, 1200 6th Avenue, Seattle, WA. During the public comment period, the Consent Decree may be examined on the following Department of Justice Web site: http://www.usdoj.gov/enrd/open.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $3.25 (25 cents per page reproduction cost, without attachments) payable to the United States Treasury for payment.

Robert E. Maher, Jr.
Assistant Section Chief, Environmental Enforcement Section, Environment and Natural Resources Division.

[FR Doc. 06-1184 Filed 2-8-06; 8:45 am]

BILLING CODE 4410-15-M